DEPARTMENT OF HOMELAND SECURITY

Coast Guard

DEPARTMENT OF TRANSPORTATION

Maritime Administration

[USCG-2005-21232]

Beacon Port LLC, Liquefied Natural Gas Deepwater Port License Application

AGENCY: Coast Guard, DHS; Maritime Administration, DOT.

ACTION: Notice of application.

SUMMARY: The Coast Guard and the Maritime Administration (MARAD) announce that they have received an application for the licensing of a natural gas deepwater port, and that the application appears to contain the required information. This notice summarizes the applicant's plans and the procedures that will be followed in considering the application.

DATES: The Deepwater Port Act of 1974, as amended, requires any public hearing on this application to be held not later than January 19, 2006, and requires a decision on the application to be made not later than April 19, 2006.

ADDRESSES: The public docket for USCG-2005-21232 is maintained by the: Docket Management Facility, U.S. Department of Transportation, 400 Seventh Street, SW., Washington, DC 20590-0001.

Docket contents are available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Lieutenant Commander Kevin Tone, U.S. Coast Guard, telephone: 202-267-0226, e-mail: KTone@comdt.uscg.mil. If you have questions on viewing the docket, call Andrea M. Jenkins, Program Manager, Docket Operations, telephone: 202-366-0271.

SUPPLEMENTARY INFORMATION:

Receipt of application

On January 18, 2005, the Coast Guard and MARAD received an application from Beacon Port LLC, 600 N. Dairy Ashford, Houston, TX 77079-1175 for all Federal authorizations required for a license to own, construct, and operate a deepwater port governed by the Deepwater Port Act of 1974, as amended, 33 U.S.C. 1501 et seq. (the Act). A portion of the original submission did not contain sufficient information. On April 16, 2005, we received revised information which enabled us to complete our review. On May 10, 2005, we determined that the application appeared to contain all information required by the Act.

Background

According to the Act, a deepwater port is a fixed or floating manmade structure other than a vessel, or a group of structures, located beyond State seaward boundaries and used or intended for use as a port or terminal for the transportation, storage, and further handling of oil or natural gas for transportation to any State.

A deepwater port must be licensed by the Secretary of Transportation. Statutory and regulatory requirements for licensing appear in 33 U.S.C. 1501 et seq. and in 33 CFR Part 148. Under delegations from and agreements between the Secretary of Transportation and the Secretary of Homeland Security, applications are processed by the Coast Guard and MARAD. Each application is considered on its merits.

The Act provides strict deadlines for processing an application. Once a notice is published indicating that an application appears to contain the required information, we must hold public hearings on the application within 240 days, and the Secretary of Transportation must render a decision on the application within 330 days. We will publish additional Federal Register notices to inform you of these public hearings and other procedural milestones, including environmental review. The Secretary's decision, and other key documents, will be filed in the public docket.

At least one public hearing must take place in each adjacent coastal State. For purposes of the Act, Louisiana and Texas are the adjacent coastal States for this application. Other States can apply for adjacent coastal State status in accordance with 33 U.S.C. 1508(a)(2).

Summary of the Application

The application plan calls for the proposed deepwater port terminal to be located outside State waters in the Gulf of Mexico on the U.S. Outer Continental Shelf (OCS). Beacon Port would consist of a Main Terminal, Riser Platform, and connecting pipelines. The Main Terminal would be located approximately 50 miles (80 km) off the coast, East-Southeast of Galveston, TX (approximately 45 miles (72 km) South of High Island, TX) in OCS lease block High Island Area 27 (HIA 27). The Riser Platform would be located approximately 29 miles off the coast, South-Southeast of Johnson's Bayou, LA (approximately 27 miles South of Holly Beach, LA) in OCS lease block West Cameron 167 (WC 167). Beacon Port would serve as an LNG receiving, storage, and regasification facility. The Main terminal would be located in water depth of approximately 65 feet (20 m).

The proposed Beacon Port Main Terminal would include: two concrete Gravity Based Structures (GBS) that would contain the LNG storage tanks, LNG carrier berthing provisions, LNG unloading arms, low and high pressure pumps, vaporizers, metering, utility systems, general facilities and accommodations. The Main Terminal would be able to receive LNG carriers up to 253,000 cubic meters cargo capacity. LNG carrier arrival frequency would be planned to match specified terminal gas delivery rates. The terminal would have storage capacity for up to 300,000 cubic meters of LNG (150,000 cubic meters per tank) on site.

Regasification of LNG would be accomplished through the use of open rack vaporizers (ORV's). In normal operation, four pumps would operate having a combined total flow rate of approximately 167.5 million gallons per day (26,400 m³/hr). At peak operation, five pumps would operate with a combined total flow rate of approximately 203 million gallons per day (32,000 m³/hr).

Beacon Port proposes the installation of approximately 46 miles of offshore natural gas transmission pipeline on the OCS. A 42-inch diameter pipeline would connect the Main Terminal with the Riser Platform. Three additional pipelines (24-inch, 20-inch, and 12.75-inch in diameter) are proposed to connect the Riser Platform with existing gas distribution pipelines in the West Cameron (WC) 167 OCS block. The deepwater port would be designed to handle an average delivery of approximately 1.5 billion standard cubic feet of natural gas per day (Bscfd) with a peak delivery of approximately 1.8 Bscfd.

Dated: May 18, 2005.
B. R. Emond,
Acting Director of Standards, Marine Safety, Security, and Environmental Protection U.S. Coast Guard.
H. Keith Lesnick,
Senior Transportation Specialist, Deepwater Ports Program Manager, U.S. Maritime Administration.

[FR Doc. 05-10362 Filed 5-23-05; 8:45 am]

BILLING CODE 4910-15-P